DEPARTMENT OF LABOR

Employment and Training Administration

[TA-W-54,048A and TA-W-54,048D]

Westpoint Stevens, Lanier Facility, Bed Products Division, Valley, AL, and Westpoint Stevens, Sheeting Division Office, Opelika, AL; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on February 19, 2004, applicable to workers of WestPoint Stevens, Lanier Facility, Bed Products Division, Valley, Alabama. The notice was published in the Federal Register on March 12, 2004 (69 FR 11889).

At the request of the company official, the Department reviewed the certification for workers of the subject firm. The workers of the firm's Bed Products Division produced sheeting materials.

New information submitted by the company demonstrates that workers in the WestPoint Stevens, Sheeting Division Office, Opelika, Alabama, provided administrative support for the firm's production of sheeting at the Lanier Plant in Valley, Alabama which has ceased production. When filing the petition, the company official inadvertently failed to include workers in the Sheeting Division Office, Opelika, Alabama, in support of the Lanier Plant production.

The intent of the Department's certification is to include all workers of the firm who were adversely affected by increased imports.

Accordingly, the Department is amending this certification to include workers of the Sheeting Division Office of the subject firm in Opelika, Alabama.

The amended notice applicable to TA-W-54,048A is hereby issued as follows:

All workers of WestPoint Stevens, Lanier Facility, Bed Products Division, Valley, Alabama (TA-W-54,048A), and WestPoint Stevens, Sheeting Division Office, Opelika, Alabama, who became totally or partially separated from employment on or after January 15, 2003, through February 19, 2006, are eligible to apply for adjustment assistance under Section 223 of the Trade Act of 1974, and are also eligible to apply for alternative trade adjustment assistance under Section 246 of the Trade Act of 1974.

Signed at Washington, DC this 6th day of April 2005.
Linda G. Poole,
Certifying Officer, Division of Trade Adjustment Assistance.

[FR Doc. E5-1942 Filed 4-22-05; 8:45 am]

BILLING CODE 4510-30-P